DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before August 3, 2010. Address written comments to Statutory Import Programs Staff, Room 3720, U.S. Department of Commerce, Washington, D.C. 20230. Applications may be examined between 8:30 A.M. and 5:00 P.M. at the U.S. Department of Commerce in Room 3720.

Docket Number: 10-043. Applicant: National Superconducting Cyclotron Laboratory of Michigan State University, 1 Cyclotron Laboratory, South Shaw Lane, East Lansing, MI 48824-1321. Instrument: Radio Frequency Quadropole Accelerator (RFQ). Manufacturer: Institut fur Angewandte Physik, Germany. Intended Use: The instrument will be a component of a larger linear accelerator system to accelerate isotopes for nuclear structure and nuclear astrophysics studies. The characteristics of the 4-rod RFQ pertinent for the intended purpose are the reachable power and electrode voltage level, simple tuning of rod-voltage flatness, and simple resonance frequency tuning in order to guarantee the required ion beam properties. No other RFQ structure can deliver these features in the according frequency range of 80.5 MHz. As the experimental program conducted with reaccelerated beams spans the entire range of the periodic table of elements, the structure must ensure stable operation at low and high power.

No degradation of the beam quality due to thermal stress can be tolerated. No shortfall of the experimental program due to multi-factoring of the RFQ can be accepted. Therefore a simple and reliable structure like the 4-rod RFQ is the best choice for the required task of reliable beam delivery. Justification for Duty-Free Entry: There are no similar instruments of the same general category as the foreign instrument being manufactured domestically. Application accepted by Commissioner of Customs: June 16, 2010.

Dated: July 7, 2010.
Christopher Cassel,
Director, IA Subsidies Enforcement Office.

[FR Doc. 2010-17167 Filed 7-13-10; 8:45 am]

BILLING CODE 3510-DS-S